DEPARTMENT OF COMMERCE

International Trade Administration

Cancellation of Middle East Clean Tech Executive Led Trade Mission to Saudi Arabia, the UAE, and Israel, March 12-17, 2023

AGENCY: International Trade Administration, Department of Commerce.

ACTION: Notice.

SUMMARY: On March 18, 2022, the United States Department of Commerce notified the public of Winter 2022 approved International Trade Administration Missions (87 FR 15374, Mar. 18, 2022), including a Middle East Clean Tech Executive Led Trade Mission to Saudi Arabia, the UAE, and Israel, March 12-17, 2023. The International Trade Administration has cancelled this Trade Mission.

Cancellation Notice

In the Federal Register Notice of March 18, 2022, 87 FR 15374 on page 15374, title note at top of page, correct the subject heading of the notice to read: Announcement of Winter 2022 Approved International Trade, Middle East Executive-led Clean Tech Trade Mission to Saudi Arabia, the UAE, and Israel, has been cancelled, 3/12-3/17/2023.

FOR FURTHER INFORMATION CONTACT: Larry Tabash, Global Middle East & Africa Team Lead, U.S. Commercial Service, Arlington, VA, (512) 936-0039, larry.tabash@trade.gov.

Gemal Brangman,
Director, ITA Events Management Task Force.

[FR Doc. 2023-04983 Filed 3-9-23; 8:45 am]

BILLING CODE 3510-DR-P